DEPARTMENT OF EDUCATION

Office of Special Education and Rehabilitative Services

AGENCY: Department of Education.

ACTION: List of correspondence from January 2, 2003 through March 31, 2003.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507.

If you use a telecommunications device for the deaf (TDD), you may call (202) 205-5637 or the Federal Information Relay Service (FIRS) at 1-800-877-8339.

Individuals with disabilities may obtain a copy of this notice in an alternative format (e.g., Braille, large print, audiotape, or computer diskette) on request to Katie Mincey, Director of the Alternate Format Center. Telephone: (202) 205-8113.

SUPPLEMENTARY INFORMATION: The following list identifies correspondence from the Department issued from January 2, 2003 through March 31, 2003.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part B

Assistance for education of All Children With Disabilities Section 611—Authorization; Allotment; Use of Funds; Authorization of Aappropriations Section 619—Preschool Grants

Topic Addressed: Use of funds

• Letter dated March 25, 2003 to American Samoa Special Education Division Director Moeolo Vaatausili, regarding whether the purchase of vehicles to meet the transportation needs of children with disabilities using Part B funds is an allowable cost.

• Letter dated March 21, 2003 to Louisiana Department of Education Director Virginia Beridon, regarding criteria for determining whether use of Part B funds for international travel is an allowable cost.

Section 612—State Eligibility.

Topic Addressed: Confidentiality of Education Records

• Letter dated February 14, 2003 to Bergen County, New Jersey Freeholder Louis A. Tedesco, clarifying that rights under the confidentiality provisions of the Family Educational Rights and Privacy Act (FERPA) and the IDEA vest with the parent or eligible student and that FERPA does not provide for these rights to be vested in a third party that has not suffered an alleged violation.

Topic Addressed: Procedural Safeguards

• Letter dated February 26, 2003 to Vermont Director of Special Education Dennis Kane, regarding issues the State needs to review and resolve pursuant to State complaint procedures and the complaint requirements in the part B regulations at 34 CFR 300.660-300.662.

• Letter dated March 6, 2003 to individual, (personally identifiable information redacted), regarding the change in the Part B regulations that removed the Secretarial review process under the State complaint procedures effective May 11, 1999.

Topic Addressed: State Education Agency General Supervisory Authority

• Letter dated March 24, 2003 to Connecticut Commissioner of Education Theodore S. Sergi, regarding the State's due process hearing procedures and compliance with the Special Conditions on its Federal fiscal year 2002 grant award under Part B.

Section 614—Evaluations, Eligibility Determinations, Individualized Education Programs, and Educational Placements

Topic Addressed: Evaluations and Reevaluations

• Letter dated March 20, 2003 to Vermont Department of Education Legal Counsel Geoffrey A. Yudien, clarifying (1) that a school district may not override parental consent for the initial provision of special education and related services, (2) that a school district is not required to obtain separate parental consent for additional services that the individualized education programs team deems necessary or for a continuation of services after the parent has previously consented to the initial provision of services, and (3) that the protections under the IDEA, including the discipline procedures at 34 CFR 300.520-300.529, would not apply to children whose parents have refused consent for the initial provision of special education and related services.

• Letter dated February 11, 2003 to New Jersey Director of Special Education Barbara Gantwerk, clarifying (1) the ways in which school districts can document efforts to obtain parental consent for the initial provision of special education and related services and reevaluations, and (2) that school districts are not required to provide the Part B discipline protections to children who are not receiving special education because their parents have refused to consent.

Topic Addressed: Individualized Education Programs

• Letter dated February 4, 2003 to West Virginia Advocate Susan Given, regarding factors that States may use in determining when extended school year services are appropriate under Part B.

Section 615—Procedural Safeguards

Topic Addressed: Independent Educational Evaluations

• Letter dated March 20, 2003 to Arkansas Volunteer Educational Advocate David Young, clarifying that a school district's practice of maintaining and requiring a parent to use a list of qualified independent educational evaluation (IEE) examiners is not inconsistent with the parent's right to an IEE.

Topic Addressed: Surrogate Parents

• Letter dated March 11, 2003 to Vermont Department of Education Legal Counsel Geoffrey A. Yudien, regarding the authority of the State and the role of the surrogate parent in making educational decisions for children with disabilities placed in State custody.

Part C

Infants and Toddlers With Disabilities

Section 636—Individualized Family Service Plan

Topic Addressed: Early Intervention Services

• Letter dated March 25, 2003 to Connecticut Birth to Three System Director Linda Goodman, regarding whether assistive technology can be provided under Part C.

• Letter dated March 13, 2003 to South Carolina Part C Coordinator David K. Steele, clarifying that although the provision of respite or other care arrangements may be necessary for some families to participate in appropriate early intervention activities, the term “respite” is not intended to serve as child-care or “baby-sitting” assistance in ordinary circumstances.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.027, Assistance to States for Education of Children with Disabilities)
Dated: June 18, 2003.
Robert H. Pasternack,
Assistant Secretary for Special Education and Rehabilitative Services.

[FR Doc. 03-15807 Filed 6-20-03; 8:45 am]

BILLING CODE 4000-01-P